OFFICE OF PERSONNEL MANAGEMENT

Submission for Review; Information Collection: Freedom of Information/Privacy Act Record Request Form (INV 100)

AGENCY: U.S. Office of Personnel Management.

ACTION: 60-Day Notice and request for comments.

SUMMARY: Federal Investigative Services (FIS), U.S. Office of Personnel Management (OPM) offers the general public and other federal agencies the opportunity to comment on an information collection request (ICR), Office of Management and Budget (OMB) Control No. 3206-NEW, Freedom of Information/Privacy Act Record Request Form (INV 100). As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until October 30, 2012. This process is conducted in accordance with 5 CFR 1320.1.

ADDRESSES: Interested persons are invited to submit written comments on the proposed information collection to the Federal Investigative Services, U.S. Office of Personnel Management, 1900 E Street NW., Washington, DC 20415, Attention: Laura Eury or sent via electronic mail to FISFormsComments@opm.gov.

FOR FURTHER INFORMATION CONTACT: A copy of this ICR, with applicable supporting documentation, may be obtained by contacting the Federal Investigative Services, U.S. Office of Personnel Management, 1900 E Street NW., Washington, DC 20415, Attention: Laura Eury or sent via electronic mail to FISFormsComments@opm.gov.

SUPPLEMENTARY INFORMATION: OPM's Federal Investigative Services (FIS), Freedom of Information and Privacy Act (FOI/PA) office proposes use of this optional form (INV 100) to standardize collection of data elements specific to FOIA and Privacy Act record requests submitted to FIS. Current FOIA and Privacy Act record requests are submitted to FIS-FOI/PA in a format chosen by the requester, yet consistent with the published regulations at 5 CFR 294 and 297, respectively. Often the requests are missing data elements which require contact with the requester via mail, thereby adding time to the access process. Standardization of the access process will increase the volume of perfected requests received and strike an appropriate balance between the burden to the public in submitting a request and FIS-FOI/PA being able to verify the identity of the requester, thereby ensuring Privacy Act Protected records are not inappropriately released to third parties. It is estimated that 16,626 individuals will respond annually. The INV 100 takes approximately 5 minutes to complete. The estimated annual burden is 1,386 hours.

U.S. Office of Personnel Management.
John Berry,
Director.

[FR Doc. 2012-21581 Filed 8-30-12; 8:45 am]

BILLING CODE 6325-53-P